DEPARTMENT OF STATE

[Public Notice: 7452]

Determination Pursuant to Section 451 of the Foreign Assistance Act Relating to Assistance for Individuals To Support Near East Regional Democracy

Pursuant to section 451 of the Foreign Assistance Act of 1961, as amended (the “Act”) (22 U.S.C. section 2261) and section 1-100 of Executive Order 12163, as amended, I hereby authorize, notwithstanding any other provision of law, the use of $5,000,000 in FY 2010 Economic Support Funds in order to provide assistance for individuals in support of Near East Regional Democracy.

This Determination shall be reported to the Congress promptly and published in the Federal Register.

Dated: April 19, 2011.
Hillary Rodham Clinton,
Secretary of State.

[FR Doc. 2011-11547 Filed 5-10-11; 8:45 am]

BILLING CODE 4710-31-P